DEPARTMENT OF TRANSPORTATION

Federal Aviation Administration

14 CFR Part 39

[Docket No. 2001-NM-254-AD; Amendment 39-13805; AD 2004-19-11]

RIN 2120-AA64

Airworthiness Directives; Airbus Model A320 Series Airplanes

AGENCY: Federal Aviation Administration, DOT.

ACTION: Final rule.

SUMMARY: This amendment supersedes an existing airworthiness directive (AD), applicable to certain Airbus Model A320 series airplanes, that currently requires modification of the rear spar web of the wing, cold expansion of certain attachment holes for the forward pintle fitting and certain holes at the actuating cylinder anchorage of the main landing gear (MLG), repetitive inspections for fatigue cracking in certain areas of the rear spar of the wing, and corrective action if necessary. That AD also provides for optional terminating action for the requirements of the AD. This amendment revises certain compliance times for the inspection. The actions specified by this AD are intended to detect and correct fatigue cracking, which may lead to reduced structural integrity of the wing and the MLG. This action is intended to address the identified unsafe condition.

DATES: Effective November 5, 2004.

The incorporation by reference of a certain publication, as listed in the regulations, is approved by the Director of the Federal Register as of November 5, 2004.

The incorporation by reference of certain other publications, as listed in the regulations, was approved previously by the Director of the Federal Register as of June 30, 2000 (65 FR 34069, May 26, 2000); February 14, 1994 (59 FR 1903, January 13, 1994); and June 11, 1993 (58 FR 27923, May 12, 1993).

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington; or at the National Archives and Records Administration (NARA). For information on the availability of this material at NARA, call (202) 741-6030, or go to http://www.archives.gov/federal_register/code_of_federal_regulations/ibr_locations.html.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION: A proposal to amend part 39 of the Federal Aviation Regulations (14 CFR part 39) by superseding AD 2000-10-15, amendment 39-11739 (65 FR 34069, May 26, 2000), which is applicable to certain Airbus Model A320 series airplanes, was published in the Federal Register on February 13, 2004 (69 FR 7176). The action proposed to retain the requirements of AD 2000-10-15 (modification of the rear spar web of the wing, cold expansion of certain attachment holes for the forward pintle fitting and certain holes at the actuating cylinder anchorage of the main landing gear (MLG), and repetitive inspections for fatigue cracking in certain areas of the rear spar of the wing; and corrective action if necessary; with optional terminating action for those requirements). The notice of proposed rulemaking (NPRM) proposed to revise the threshold and repetitive intervals for the inspection.

Comments

Interested persons have been afforded an opportunity to participate in the making of this amendment. Due consideration has been given to the comments received.

Support for the Proposed AD

One commenter supports the AD as proposed.

Request To Revise Certain Compliance Time

One commenter, an airline operator, suggests that the grace period (60 days) specified in paragraph (c)(1) of the proposed AD is overly restrictive. The operator requests that the grace period be changed to correspond to the next C-check (18 months for this operator). This recommended grace period would provide sufficient time for operators to do the optional terminating modification specified in the proposed AD. The operator reports that the modification (which has been done on 80 percent of its fleet to date) has revealed only one cracked fastener hole, representing 0.05 percent of all fastener holes inspected. The operator asserts that its proposed grace period would still allow for the safe continued airworthiness of the affected airplanes.

The FAA agrees with the commenter's request and rationale. We agree that the proposed 60-day grace period was unnecessarily restrictive. The commenter's proposed grace period approximates the grace periods mandated by the parallel French airworthiness directive. We have accordingly revised the grace period in paragraph (c)(1) of this final rule.

Additional Change to the Final Rule

Because the language in Note 2 of the proposed AD is regulatory in nature, that note has been redesignated as paragraph (d) of this final rule.

Conclusion

After careful review of the available data, including the comments noted above, the FAA has determined that air safety and the public interest require the adoption of the rule with the changes previously described. The FAA has determined that these changes will neither increase the economic burden on any operator nor increase the scope of the AD.

Cost Impact

This AD will affect about 126 airplanes of U.S. registry. The following table provides the cost estimates of the actions currently required by AD 2000-10-15:

Cost Estimates
Action | Work hours | Hourly labor rate | Parts cost | Cost per airplane
Modification | 60 | $65 | $0 | $3,900
Cold expansion | 600 | 65 | 0 | 39,000
Inspection | 24 | 65 | 0 | ¹ 1,560
Optional terminating action | 750 | 65 | ² 27,036-32,727 | 75,786-81,477
¹ Per inspection cycle.
² Depending on airplane configuration.

This AD will not add any new actions and therefore will not add any economic burden on operators—except for the additional cost associated with a potentially shortened inspection interval.

The cost impact figures discussed above are based on assumptions that no operator has yet accomplished any of the requirements of this AD, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11739 (65 FR 34069, May 26, 2000), and by adding a new airworthiness directive (AD), amendment 39-13805, to read as follows:

2004-19-11 Airbus: Amendment 39-13805. Docket 2001-NM-254-AD. Supersedes AD 2000-10-15, Amendment 39-11739.

Applicability: Model A320 series airplanes, certificated in any category, except those modified in accordance with Airbus Modification 24591 (Airbus Service Bulletin A320-57-1089, dated December 22, 1996; Revision 01, dated April 17, 1997; Revision 02, dated November 6, 1998; or Revision 03, dated February 9, 2001).

Compliance: Required as indicated, unless accomplished previously.

To detect and correct fatigue cracking in certain areas of the rear spar of the wing, which may lead to reduced structural integrity of the wing and the main landing gear (MLG), accomplish the following:

Restatement of Certain Requirements of AD 2000-10-15

Modification

(a) For airplanes having manufacturer's serial numbers (MSN) 003 through 008 inclusive, and 010 through 021 inclusive: Prior to the accumulation of 12,000 total flight cycles, or within 500 flight cycles after June 11, 1993 (the effective date of AD 93-08-15, amendment 39-8563), whichever occurs later, modify the inner rear spar web of the wing in accordance with Airbus Service Bulletin A320-57-1004, Revision 1, dated September 24, 1992; or Revision 2, dated June 14, 1993.

(b) For airplanes having MSNs 002 through 051 inclusive: Prior to the accumulation of 12,000 total flight cycles, or within 2,000 flight cycles after February 14, 1994 (the effective date of AD 93-25-13, amendment 39-8777), whichever occurs later, accomplish the requirements of paragraphs (b)(1) and (b)(2) of this AD in accordance with Airbus Service Bulletin A320-57-1060, dated December 8, 1992; or Revision 2, dated December 16, 1994.

(1) Perform a cold expansion of all the attachment holes for the forward pintle fitting of the MLG, except for the holes that are for taper-lok bolts.

(2) Perform a cold expansion of the holes at the actuating cylinder anchorage of the MLG.

Note 1: Accomplishment of the cold expansion in accordance with Airbus Service Bulletin A320-57-1060, Revision 1, dated April 26, 1993, is also acceptable for compliance with the requirements of paragraph (b) of this AD.

New Requirements of This AD

Ultrasonic Inspection

(c) Do an ultrasonic inspection for cracking of the rear spar of the wing, in accordance with Airbus Service Bulletin A320-57-1088, Revision 04, dated August 6, 2001. Inspect at the applicable time specified in paragraph 1.E. of the service bulletin, except as required by paragraphs (c)(1) and (c)(2) of this AD.

(1) For any airplane that has not been inspected but has exceeded the applicable specified compliance time in paragraph 1.E. of the service bulletin as of the effective date of this AD: Inspect within 18 months after the effective date of this AD.

(2) For any airplane that has been inspected before the effective date of this AD: Repeat the inspection within 3,600 flight cycles after the most recent inspection.

(d) An inspection done before the effective date of this AD in accordance with Airbus Service Bulletin A320-57-1088, Revision 02, dated July 29, 1999; or Revision 03, dated February 9, 2001; is acceptable for compliance with the requirements of the initial inspection required by paragraph (c) of this AD.

Repetitive Inspections

(e) Repeat the inspection required by paragraph (c) of this AD at intervals not to exceed 3,600 flight cycles or 6,700 flight hours, whichever occurs first, until the requirements of paragraph (g) have been done.

Corrective Action

(f) If any crack is found during any inspection required by paragraph (c) or (e) of this AD: Before further flight, repair in accordance with a method approved by either the Manager, International Branch, ANM-116, FAA, Transport Airplane Directorate; or the Direction Générale de l'Aviation Civile (or its delegated agent).

Optional Terminating Action

(g) Modification of all specified fastener holes in the rear spar of the wing terminates the initial and repetitive inspections required by paragraphs (c) and (e) of this AD, if the modification is done in accordance with Airbus Service Bulletin A320-57-1089, Revision 02, dated November 6, 1998; or Revision 03, dated February 9, 2001. If done before the airplane accumulates 12,000 total flight cycles, the modification also terminates the actions required by paragraphs (a) and (b) of this AD.

Incorporation by Reference

(h) Unless otherwise specified in this AD, the actions must be done in accordance with the service bulletins listed in Table 1 of this AD.

Table 1.—Service Bulletins Incorporated by Reference
Service bulletin | Revision level | Date
Airbus Service Bulletin A320-57-1004 | 1 | September 24, 1992.
Airbus Service Bulletin A320-57-1004 | 2 | June 14, 1993.
Airbus Service Bulletin A320-57-1060 | Original | December 8, 1992.
Airbus Service Bulletin A320-57-1060 | 2 | December 16, 1994.
Airbus Service Bulletin A320-57-1088 | 04 | August 6, 2001.

(1) The incorporation by reference of Airbus Service Bulletin A320-57-1088, Revision 04, dated August 6, 2001, is approved by the Director of the Federal Register as of November 5, 2004.

(2) The incorporation by reference of Airbus Service Bulletin A320-57-1004, Revision 2, dated June 14, 1993; and Airbus Service Bulletin A320-57-1060, Revision 2, dated December 16, 1994; was approved previously by the Director of the Federal Register as of June 30, 2000 (65 FR 34069, May 26, 2000).

(3) The incorporation by reference of Airbus Service Bulletin A320-57-1060, dated December 8, 1992, was approved previously by the Director of the Federal Register as of February 14, 1994 (59 FR 1903, January 13, 1994).

(4) The incorporation by reference of Airbus Service Bulletin A320-57-1004, Revision 1, dated September 24, 1992, was approved previously by the Director of the Federal Register as of June 11, 1993 (58 FR 27923, May 12, 1993).

(5) Copies may be obtained from Airbus, 1 Rond Point Maurice Bellonte, 31707 Blagnac Cedex, France. Copies may be inspected at the FAA, Transport Airplane Directorate, 1601 Lind Avenue, SW., Renton, Washington; or at the National Archives and Records Administration (NARA). For information on the availability of this material at NARA, call (202) 741-6030, or go to http://www.archives.gov/federal_register/code_of_federal_regulations/ibr_locations.html.

Note 2: The subject of this AD is addressed in French airworthiness directive 2001-249(B), dated June 27, 2001.

Effective Date

(i) This amendment becomes effective on November 5, 2004.

Issued in Renton, Washington, on September 21, 2004.
Kalene C. Yanamura,
Transport Airplane Directorate, Aircraft Certification Service.

[FR Doc. 04-21816 Filed 9-30-04; 8:45 am]

BILLING CODE 4910-13-P